CORPORATION FOR NATIONAL AND COMMUNITY SERVICE

Proposed Information Collection; Comment Request

AGENCY: Corporation for National and Community Service.

ACTION: Notice.

SUMMARY: The Corporation for National and Community Service (the Corporation), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed revision of its VISTA Progress Report Supplement (VPRS) (OMB Control Number 3045-0048) which will expire on July 31, 2014.

This revision reflects the Corporation's intent to modify selected sections of the collection instrument to reflect changes in the performance measures as approved by OMB and which will capture appropriate data for the Corporation's required performance measurement reporting.

Copies of the information collection request can be obtained by contacting the office listed in the addresses section of this Notice.

DATES: Written comments must be submitted to the office listed in the ADDRESSES section by July 2, 2012.

ADDRESSES: You may submit comments, identified by the title of the information collection activity, by any of the following methods:

(1) By mail sent to: Corporation for National and Community Service, Attn. Kelly Daly, Program Development Specialist, 1201 New York Avenue NW., Washington, DC, 20525.

(2) By hand delivery or by courier to the Corporation's reception desk on the 10th floor at the mail address given in paragraph (1) above, between 9 a.m. and 4 p.m. Monday through Friday except Federal holidays.

(3) By fax to: (202) 606-3475, Attention Kelly Daly, Program Development Specialist.

(4) Electronically through the Corporation's email address system: vista@americorps.gov or www.regulations.gov.

(5) Individuals who use a telecommunications device for the deaf (TTY-TDD) may call (202) 606-3472 between 8:30 a.m. and 5:00 p.m. Eastern Time, Monday through Friday.

FOR FURTHER INFORMATION CONTACT: Kelly Daly (202-606-6849) or by email at vista@americorps.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are expected to respond, including the use of appropriate automated, electronic, mechanical, or other technological collection techniques or other forms of information technology (e.g., permitting electronic submissions of responses).

Background

The VISTA Progress Report Supplement (VPRS) is designed to assure that AmeriCorps VISTA sponsors address and fulfill legislated program purposes, meet agency program management and grant requirements, and assess progress toward project plan goals agreed upon in the signing of the Memorandum of Agreement.

Current Action

The Corporation seeks to revise the current VPRS used by AmeriCorps VISTA sponsors and grantees to report actual outcomes related to new OMB-approved performance measures. The average time of response has been reduced to 8 hours from 9 due to a reduction in the total number of measures for which information is requested and the estimated number of respondents was dropped from 1000 to 900 to better reflect current number of approved AmeriCorps VISTA sponsors.

Type of Review: Renewal.

Agency: Corporation for National and Community Service.

Title: VISTA Progress Report Supplement.

OMB Number: 3045-0048.

Agency Number: None.

Affected Public: VISTA sponsors and grantees.

Total Respondents: 900.

Frequency: Annual.

Average Time per Response: 8 hours.

Estimated Total Burden Hours: 7,200 hours.

Total Burden Cost (capital/startup): None.

Total Burden Cost (operating/maintenance): None.

Comments submitted in response to this notice will be summarized and/or included in the request for Office of Management and Budget approval of the information collection request; they will also become a matter of public record.

Dated: April 24, 2012.
Mary Strasser,
Director, AmeriCorps VISTA.

[FR Doc. 2012-10410 Filed 4-30-12; 8:45 am]

BILLING CODE 6050-$$-P